DEPARTMENT OF THE INTERIOR

Geological Survey

[GR21ZD01BNEEC00; OMB Control Number 1028-NEW]

Agency Information Collection Activities; Angler Participation Study

AGENCY: Geological Survey, Interior.

ACTION: Notice of information collection; request for comment.

SUMMARY: In accordance with the Paperwork Reduction Act of 1995, we, the U.S. Geological Survey (USGS) are proposing a new information collection.

DATES: Interested persons are invited to submit comments on or before September 21, 2021.

ADDRESSES: Send your comments on this information collection request (ICR) by mail to U.S. Geological Survey, Information Collections Officer, 12201 Sunrise Valley Drive, MS 159, Reston, VA 20192; or by email to gs-info_collections@usgs.gov. Please reference OMB Control Number 1028-NEW in the subject line of your comments. Individuals who are hearing or speech impaired may call the Federal Relay Service at 1-800-877-8339 for TTY assistance.

FOR FURTHER INFORMATION CONTACT: To request additional information about this ICR, contact Lucas Bair by email at lbair@usgs.gov, or by telephone at 928-556-7362.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: In 2019 the National Park Service (NPS) completed a plan for non-native fish management from Glen Canyon Dam to Lees Ferry and on through Grand Canyon National Park. The NPS identified specific tools for managing non-native brown trout with public and partner input, including an incentivized harvest program that offers a reward to anglers for catching and harvesting brown trout. The Glen Canyon Dam Adaptive Management Program along with its science provider, the US Geological Survey's Grand Canyon Monitoring and Research Center, is interested in understanding the participation of anglers in the brown trout incentivized harvest program. A mail-back survey will be used to collect information concerning (1) trip characteristics, (2) incentive structure and (3) opinions on river management. This collection proposes to provide data that will be used to inform the ongoing incentivized harvest program.

Title of Collection: Angler Participation Study.

OMB Control Number: 1028-NEW.

Form Number: None.

Type of Review: New.

Respondents/Affected Public: General public and individual households.

Total Estimated Number of Annual Respondents: 800.

Total Estimated Number of Annual Responses: 400.

Estimated Completion Time per Response: We estimate the public reporting burden to be 20 minutes per completed survey response.

Total Estimated Number of Annual Burden Hours: 200.

Respondent's Obligation: Voluntary.

Frequency of Collection: One-time.

Total Estimated Annual Nonhour Burden Cost: We have not identified any nonhour burden costs associated with this collection of information.

An agency may not conduct, or sponsor and a person is not required to respond to a collection of information unless it displays a currently valid OMB control number.

The authority for this action is the Paperwork Reduction Act of 1995 (44 U.S.C. 3501 et seq.).

Theodore Melis,
Deputy Center Director, Southwest Region.

[FR Doc. 2021-15713 Filed 7-22-21; 8:45 am]

BILLING CODE 4338-11-P